ENVIRONMENTAL PROTECTION AGENCY

[FRL-7548-5]

Environmental Laboratory Advisory Board; New Membership

AGENCY: Environmental Protection Agency (EPA).

ACTION: Notice.

The Charter for the Environmental Protection Agency's Environmental Laboratory Advisory Board (ELAB) has been renewed for an additional two-year period, as a necessary committee which is in the public interest, in accordance with the provisions of the Federal Advisory Committee Act (FACA), 5 U.S.C. App. 2 section 9(c). The purpose of ELAB is to provide advice and recommendations to the Administrator of EPA on issues associated with the systems and standards of accreditation for environmental laboratories. ELAB is composed of representatives of non-Federal interest that were selected from among, but not limited to, trade associations for the environmental laboratory industry, trade associations from EPA's regulated community, environmental public interest groups, academia, local and tribal governments, and laboratory assessment bodies. ELAB is currently seeking additional membership from these areas of interest, or others, with experience in the systems and standards of accreditation for environmental laboratories.

Resumes and letters of interest may be directed to Lara P. Autry, NELAC/NELAP Director, U.S. Environmental Protection Agency, Office of Research and Development, National Exposure Research Laboratory, Environmental Sciences Division, Landscape Characterization Branch (E243-05), Research Triangle Park, NC 27711 or by e-mail: autry.lara@epa.gov. Inquiries must be submitted by August 15, 2003 for consideration.

Dated: July 30, 2003.
Henry L. Longest,
Acting Assistant Administrator, Office of Research and Development.

[FR Doc. 03-21599 Filed 8-21-03; 8:45 am]

BILLING CODE 6560-50-P